COMMITTEE FOR PURCHASE FROM PEOPLE WHO ARE BLIND OR SEVERELY DISABLED

Procurement List; Proposed Additions

AGENCY: Committee for Purchase From People Who Are Blind or Severely Disabled.

ACTION: Proposed additions to the Procurement List.

SUMMARY: The Committee is proposing to add product(s) and service(s) to the Procurement List that will be furnished by nonprofit agencies employing persons who are blind or have other severe disabilities.

DATES: Comments must be received on or before: July 8, 2018.

ADDRESSES: Committee for Purchase From People Who Are Blind or Severely Disabled, 1401 S Clark Street, Suite 715, Arlington, Virginia 22202-4149.

FOR FURTHER INFORMATION CONTACT: For further information or to submit comments contact: Amy B. Jensen, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the product(s) and service(s) listed below from nonprofit agencies employing persons who are blind or have other severe disabilities.

The following product(s) and service(s) are proposed for addition to the Procurement List for production by the nonprofit agencies listed:

Products

NSN(s)—Product Name(s):

8415-01-605-7311—Coverall, Fuel Handlers, Type II, Class III, Coyote, XXSM

8415-01-605-7315—Coverall, Fuel Handlers, Type II, Class III, Coyote, XSM

8415-01-605-7316—Coverall, Fuel Handlers, Type II, Class III, Coyote, SM

8415-01-605-7317—Coverall, Fuel Handlers, Type II, Class III, Coyote, MED

8415-01-605-7318—Coverall, Fuel Handlers, Type II, Class III, Coyote, LG

8415-01-605-7319—Coverall, Fuel Handlers, Type II, Class III, Coyote, XLG

8415-01-605-7321—Coverall, Fuel Handlers, Type II, Class III, Coyote, XXLG

Mandatory for: 100% of the requirement for the U.S. Army

Mandatory Source of Supply: Winston-Salem Industries for the Blind, Inc., Winston-Salem, NC

Contracting Activity: Army Contracting Command—Aberdeen Proving Ground, Natick Contracting Division

Distribution: C-List

Services

Service Type: Medical Procurement, Integration, and Warehousing Service

Mandatory for: U.S. Army, Natick Contracting Division, Aberdeen Proving Ground, 15 General Greene Ave., Natick, MA

Mandatory Source of Supply: Winston-Salem Industries for the Blind, Inc., Winston-Salem, NC

Contracting Activity: Army Contracting Command—Aberdeen Proving Ground —Natick Contracting Division

Service Type: Vehicle Maintenance Facility Operation

Mandatory for: Department of State, Diplomatic Security, Foreign Affairs Security Training Center, Fort Pickett, 1125 West Parade, Blackstone, VA

Mandatory Source of Supply: Skookum Educational Programs, Bremerton, WA

Contracting Activity: Department of State, Acquisitions—AQM MOMENTUM

Service Type: Grounds Maintenance and Snow Removal Service

Mandatory for: U.S. Navy, NAVFAC Mid-Atlantic Division:

Naval Station Newport Complex, Newport, RI;

Naval Undersea Warfare Center Division, Newport, RI;

Fishers Island, NY & Dodge Pond, NY;

Naval Health Clinic New England, Newport, RI;

9324 Virginia Avenue, Norfolk, VA

Mandatory Source of Supply: CW Resources, Inc., New Britain, CT

Contracting Activity: Dept. of the Navy, Naval FAC Engineering CMD MID LANT

Service Type: Mess Attendant Service

Mandatory for: U.S. Air Force, Luke AFB, Ray V. Hensman (RVH) Dining Facility and Falcon Inn (FI) Flight Kitchen, Building 545 (RVI) & Building 954 (FI), 14185 Falcon Street, Luke AFB, AZ

Mandatory Source of Supply: The Centers for Habilitation/TCH, Tempe, AZ

Contracting Activity: Dept. of the Air Force, FA4887 56 CONS CC

Amy Jensen,
Director, Business Operations.

[FR Doc. 2018-12385 Filed 6-7-18; 8:45 am]

BILLING CODE 6353-01-P